DEPARTMENT OF THE INTERIOR

Office of the Secretary

Availability of the Policy on Integrity of Scientific and Scholarly Activities of the Department of the Interior

AGENCY: Office of the Secretary, Interior.

ACTION: Notice of availability.

SUMMARY: We, the Department of the Interior, announce the availability of the Policy on Integrity of Scientific and Scholarly Activities of the Department of the Interior established in the Departmental Manual 305 DM 3.

ADDRESSES: You can obtain copies of the Policy on Integrity of Scientific and Scholarly Activities of the Department of the Interior by contacting Alan D. Thornhill, 1849 C Street, NW., MS 5438, Washington, DC 20240-0002, 202-208-6249, or by visiting our Web site at http://elips.doi.gov/app_dm/index.cfm.

FOR FURTHER INFORMATION CONTACT: Alan D. Thornhill, 1849 C Street, NW., MS 5438, Washington, DC 20240-0002, 202-208-6249.

SUPPLEMENTARY INFORMATION:

Background

The Presidential Memorandum on Scientific Integrity dated March 9, 2009, and the Office of Science and Technology Policy 2010 guidance memorandum on scientific integrity call for ensuring the highest level of integrity in all aspects of the executive branch's involvement with scientific and technological processes. On September 29, 2010, the Secretary issued Order No. 3305, Ensuring Scientific Integrity within the Department of the Interior. This Order required publication of a Departmental Manual Chapter that sets forth principles of scientific and scholarly integrity and clarifies the roles and responsibilities of all Department employees in upholding these principles. This policy is the implementation of the Secretary's directive. The policy covers all Department employees, including political appointees, when they engage in, supervise, manage, or influence scientific and scholarly activities, or communicate information about the Department's scientific and scholarly activities, or utilize scientific and scholarly information in making agency policy, management, or regulatory decisions. The policy also covers all volunteers, contractors, cooperators, partners, permittees, leasees, and grantees who assist with developing or applying the results of scientific and scholarly activities.

Dated: January 28, 2011.
David J. Hayes,
Deputy Secretary.

[FR Doc. 2011-2366 Filed 1-31-11; 11:15 am]

BILLING CODE 4310-MR-P